DEPARTMENT OF HEALTH AND HUMAN SERVICES

Centers for Disease Control and Prevention

Advisory Committee on Breast Cancer in Young Women (ACBCYW)

In accordance with section 10(a)(2) of the Federal Advisory Committee Act (Pub. L. 92-463), the Centers for Disease Control and Prevention (CDC), announces the following meeting of the aforementioned committee:

Times and Dates:

8:00 a.m.-5:00 p.m. EST, October 31, 2013.

8:00 a.m.-1:00 p.m. EST, November 1, 2013.

Place: Centers for Disease Control and Prevention, 4770 Buford Highway, Chamblee Building 107, Rooms 1A and 1B, Atlanta, Georgia 30341

Limited teleconference access is also available. Login information is as follows:

For Public:

TOLL-FREE PHONE #: 888-989-8135

Participant passcode: BREASTCANCER

Net Conference URL: https://www.mymeetings.com/nc/join/

Conference number: PW7128790

Audience passcode: BREASTCANCER

or

Public can join the event directly: https://www.mymeetings.com/nc/join.php?i=PW7128790&p=BREASTCANCER&t=c

There is also a toll free number for anyone outside of the USA: TOLL # 1-203-827-7034

Participant passcode: BREASTCANCER

Status: Open to the public, limited only by the space and phone lines available.

Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters To Be Discussed: The agenda will include discussions on the current and emerging topics related to breast cancer in young women. These may include risk communication and health education, as well as approaches to increase awareness of clinicians/practitioners regarding topics such as breast cancer risk, breast health, symptoms, diagnosis, and treatment of breast cancer in young women.

Agenda items are subject to change as priorities dictate.

Online Registration Required: In order to expedite the security clearance process required for entry into a Federal building, all ACBCYW attendees must register for the meeting online at least 15 days in advance at http://www.cdc.gov/cancer/breast/what_cdc_is_doing/meetings.htm. Please complete all the required fields before submitting your registration and submit no later than October 16, 2013. Each meeting day, attendees must provide CDC staff and security with driver's license/state issued ID, or passport.

Contact Person for More Information: Temeika L. Fairley, Ph.D., Designated Federal Officer, National Center for Chronic Disease Prevention and Health Promotion, CDC, 5770 Buford Hwy. NE., Mailstop K52, Atlanta, Georgia 30341, Telephone (770) 488-4518, Fax (770) 488-4760.

The Director, Management Analysis and Services Office, has been delegated the authority to sign Federal Register notices pertaining to announcements of meetings and other committee management activities, for both the Centers for Disease Control and Prevention, and Agency for Toxic Substances and Disease Registry.

Elaine Baker,
Director, Management Analysis and Services Office, Centers for Disease Control and Prevention.

[FR Doc. 2013-22612 Filed 9-17-13; 8:45 am]

BILLING CODE 4163-18-P